DEPARTMENT OF HOMELAND SECURITY

Coast Guard

[Docket No. USCG-2020-0668]

Monitoring of Certain High Frequency, Voice-Distress Frequencies

AGENCY: Coast Guard, DHS.

ACTION: Request for comments.

SUMMARY: The U.S. Coast Guard is proposing to cease monitoring four, High Frequency (HF) voice distress frequencies within the contiguous United States and Hawaii because they are rarely used. We would continue to monitor HF Digital Selective Calling (DSC) distress alerting for all existing regions and voice distress and hailing from Kodiak, Alaska and Guam. We invite your comments on this proposed action.

DATES: Comments must be submitted to the online docket via http://www.regulations.gov, on or before January 19, 2021.

ADDRESSES: You may submit comments identified by docket number USCG-2020-0668 using the Federal eRulemaking Portal at https://www.regulations.gov. See the “Public Participation and Request for Comments” portion of the SUPPLEMENTARY INFORMATION section for further instructions on submitting comments.

FOR FURTHER INFORMATION CONTACT: For information about this document, please call or email Russell Levin, Communications Specialist, Spectrum Management and Communications Policy, U.S. Coast Guard (Commandant CG-672); telephone: 202-475-3555; email: Russell.S.Levin@USCG.mil.

SUPPLEMENTARY INFORMATION:

Abbreviations

HF High Frequency

DSC Digital Selective Call

kHz Kilohertz

Public Participation and Comments

We encourage you to submit comments (or related material) on the possible termination of voice monitoring of four, HF-voice-distress frequencies within the contiguous United States and Hawaii. We will consider all submissions received during the comment period. If you submit a comment, please include the docket number for this notice, and provide a reason for each of your suggestions or recommendations.

We encourage you to submit comments through the Federal eRulemaking Portal at http://www.regulations.gov. If your material cannot be submitted using http://www.regulations.gov, contact the person in the FOR FURTHER INFORMATION CONTACT section of this document for alternate instructions. All public comments will be placed in our online docket at http://www.regulations.gov and can be viewed by following that website's instructions. Additionally, if you go to the online docket and sign up for email alerts, you will be notified when comments are posted. We accept anonymous comments. All comments received will be posted without change to http://www.regulations.gov and will include any personal information you have provided. For more about privacy and submissions in response to this document, see DHS's eRulemaking System of Records notice (85 FR 14226, March 11, 2020).

Discussion

The U.S. Coast Guard is proposing to cease monitoring four, HF-voice-distress frequencies in the contiguous United States and Hawaii due to the lack of activity on these frequencies. During a 6-year period, there were four potential distress calls heard over these four voice frequencies; none required a Coast Guard response. These four voice frequencies, which we propose to cease monitoring in the contiguous United States and Hawaii, are: 4125 kHz; 6215 kHz; 8291 kHz; and 12290 kHz.

Monitoring of HF DSC frequencies for all existing regions and voice distress and hailing from Kodiak, Alaska and Guam would not be affected by this proposed action. There would also be no change in service to Puerto Rico, U.S. Virgin Islands, or American Samoa since these U.S. territories do not currently have HF infrastructure.

We believe this change would have a low impact on the maritime public as commercial satellite radios and DSC-marine-Single-Sideband HF radios have become more prevalent onboard vessels. However, we would like your comments on how you would be affected if we terminated monitoring HF-voice-only distress frequencies within the contiguous United States and Hawaii, particularly if you use HF, but do not currently have a commercial satellite radio or a HF DSC capable radio aboard your vessel.

We will consider all comments in response to this notice before deciding whether to terminate the monitoring of these HF voice-only distress frequencies within the contiguous United States and Hawaii. After considering comments received, the Coast Guard will issue a notice in the Federal Register indicating what course of action it has decided to take. This notice is issued under the authority of 14 U.S.C. 504(a)(16) and 5 U.S.C. 552(a).

Dated: November 16, 2020.
J.L. Ulcek,
Chief, Spectrum Management and Communications Policy.

[FR Doc. 2020-25605 Filed 11-19-20; 8:45 am]

BILLING CODE 9110-04-P